FEDERAL COMMUNICATIONS COMMISSION

Privacy Act System of Records

AGENCY: Federal Communications Commission (FCC or Commission).

ACTION: Notice; one new Privacy Act system of records.

SUMMARY: Pursuant to subsection (e)(4) of the Privacy Act of 1974, as amended (5 U.S.C. 552a), the FCC proposes to add a new system of records, FCC/OMD-27, “Broadband Unavailability Survey and Broadband Quality Test.” The FCC's Office of Managing Director (OMD) will use the information contained in FCC/OMD-27 to cover the personally identifiable information (PII) in the Commission's new “Public Registry of Broadband Availability Consumer Information” survey and “Broadband Quality Test.” This survey will determine the access of U.S. residents to broadband—cable and DSL, fiber and other broadband services. The test will provide individuals with a mechanism to measure the quality of their internet broadband connection. Individual street addresses will not be made public but aggregated data from the database may be made public. These data may be used to inform the National Broadband Plan, the National Broadband Map and other proceedings related to the provisioning of broadband services.

DATES: In accordance with subsections (e)(4) and (e)(11) of the Privacy Act, any interested person may submit written comments concerning the alteration of this system of records on or before January 29, 2010. The Office of Management and Budget (OMB), which has oversight responsibility under the Privacy Act to review the system of records, may submit comments on or before February 8, 2010. The proposed system of records will become effective on February 8, 2010 unless the FCC receives comments that require a contrary determination. The Commission will publish a document in the Federal Register notifying the public if any changes are necessary. As required by 5 U.S.C. 552a(r) of the Privacy Act, the FCC is submitting reports on this proposed altered system to OMB and to both Houses of Congress.

ADDRESSES: Address comments to Leslie F. Smith, Privacy Analyst, Performance Evaluation and Records Management, Room 1-C216, Federal Communications Commission, 445 12th Street, SW., Washington, DC 20554, or via the Internet at Leslie.Smith@fcc.gov.

FOR FURTHER INFORMATION: Contact Leslie F. Smith, Performance Evaluation and Records Management, Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of the proposed new system of records maintained by the FCC. This notice is a summary of the more detailed information about the proposed new system of records, which may be viewed at the location given above in the ADDRESSES section. The purpose for adding this new system of records, FCC/OMD-27, “Broadband Unavailability Survey and Broadband Quality Test,” is to cover the personally identifiable information (PII) in the Commission's new “Public Registry of Broadband Availability Consumer Information” survey and “Broadband Quality Test.” This survey will determine the access of U.S. residents to broadband—cable and DSL, fiber, and other broadband services. The test will provide individuals with a mechanism to measure the quality of their internet broadband connection. Individual street addresses will not be made public, but aggregated data from the database may be made public. The data may also be used to inform the National Broadband Plan, the National Broadband Map, and other proceedings related to the provisioning of broadband services.

This notice meets the requirement documenting the proposed new system of records that is to be added to the systems of records that the FCC maintains, and provides the public, Congress, and the Office of Management and Budget (OMB) with an opportunity to comment.

FCC/OMD-27

SYSTEM NAME:

Broadband Unavailability Survey and Broadband Quality Test.

SECURITY CLASSIFICATION:

The FCC's Security Operations Center (SOC) has not assigned a security classification to this system of records.

SYSTEM LOCATION:

Information Technology Center (ITC), Federal Communications Commission (FCC), 445 12th Street, SW., Washington, DC 20554.

CATEGORIES OF INDIVIDUALS COVERED BY THE SYSTEM:

The categories of individuals in this system include individuals who participate in the “Public Registry of Broadband Unavailability Consumer Information” survey and individuals who participate in the internet service “Broadband Quality Test.”

CATEGORIES OF RECORDS IN THE SYSTEM:

The categories of records in this system include the street address, city, state, and zip code of each individual who selects to participate in the “Public Registry of Broadband Unavailability Consumer Information” survey and each individual who participates in the Internet service “Broadband Quality Test.”

AUTHORITY FOR MAINTENANCE OF THE SYSTEM:

Broadband Data Improvement Act of 2008, Public Law No. 110-385, Stat 4096 § 103(c)(1); American Reinvestment and Recovery Act of 2009 (ARRA), Public Law No. 111-5, 123 Stat 115 (2009); and Communications Act, 47 U.S.C. 154(i).

PURPOSES:

The Commission uses the records in this system to conduct the “Public Registry of Broadband Availability Consumer Information” survey to determine the access of U.S. residents to broadband—cable and DSL, fiber, and other broadband services and to provide individuals with a “Broadband Quality Test” to measure their quality of their internet broadband connection. Individual street addresses will not be made public but aggregated data from the database may be made public. These data may be used to inform the National Broadband Plan, the National Broadband Map and other proceedings related to the provisioning of broadband services.

ROUTINE USES OF RECORDS MAINTAINED IN THE SYSTEM, INCLUDING CATEGORIES OF USERS AND THE PURPOSES OF SUCH USES:

Information about individuals in this system of records may routinely be disclosed under the following conditions:

1. Where there is an indication of a violation or potential violation of a statute, regulation, rule, or order, records from this system may be referred to the appropriate Federal, state, or local agency responsible for investigating or prosecuting a violation or for implementing or enforcing the statute, rule, regulation, or order.

2. A record on an individual in this system of records may be disclosed, where pertinent, in any legal proceeding to which the Commission is a party before a court or administrative body.

3. A record from this system of records may be disclosed to the Department of Justice or in a proceeding before a court or adjudicative body when:

(a) the United States, the Commission, a component of the Commission, or, when represented by the government, an employee of the Commission is a party to litigation or anticipated litigation or has an interest in such litigation, and

(b) The Commission determines that the disclosure is relevant or necessary to the litigation.

4. A record on an individual in this system of records may be disclosed to a Congressional office in response to an inquiry the individual has made to the Congressional office.

5. A record from this system of records may be disclosed to GSA and NARA for the purpose of records management inspections conducted under authority of 44 U.S.C. 2904 and 2906. Such disclosure shall not be used to make a determination about individuals.

6. A record from this system may be disclosed to appropriate agencies, entities, and persons when (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

7. The information collected through the voluntary Registry and speed tests, with the exception of any personally identifiable information, may be shared with public-private partnerships and with the Telecommunications Program of the United States Department of Agriculture (USDA) Rural Development Agency. This sharing regime is described in the Commission's Broadband Data Order of 2008 (FCC 08-89).

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The information includes the electronic data and records that are stored in the FCC's computer network databases.

RETRIEVABILITY:

Information in this system may be retrieved by the responses to the broadband internet access questions: (1) Broadband access (yes/no); (2) broadband service availability (check boxes for types of broadband services available at an individual's home); and (3) the individual's home address: street address, city, state, and zip code. Furthermore, the information may be retreived and/or aggregated based upon other Broadband Quality Test variables, such as broadband speed, latency, jitter, and packet loss, among other broadband quality variables.

SAFEGUARDS:

Access to the information in the Public Registry of Broadband Unavailability, which is housed in the FCC's computer network databases, is restricted to authorized OMD supervisory and staff in the Planning and Support Group of ITC and other ITC staff and contractors who maintain these computer databases. Other employees and contractors may be granted access on a “need-to-know” basis. The FCC's computer network databases are protected by the FCC's security protocols, which include controlled access, passwords, and other security features. Information resident on the database servers is backed-up routinely onto magnetic media. Back-up tapes are stored on-site and at a secured location.

RETENTION AND DISPOSAL:

The information in this system is limited to electronic files, records, and data, which pertains to the Public Registry of Broadband Unavailability, which includes:

(1) the information obtained from individuals who participated in the Consumer Information survey; and

(2) the information obtained from individuals who participated in the Speed Test.

Until the National Archives and Records Administration (NARA) approves the retention and disposal schedule, these records will be treated as permanent.

SYSTEM MANAGER(S) AND ADDRESS(ES):

Address inquiries to the Information Technology Center (ITC), Office of Managing Director (OMD), Federal Communications Commission (FCC), 445 12th Street, SW., Washington, DC 20554.

NOTIFICATION PROCEDURE:

Address inquiries to the Information Technology Center (ITC), Office of Managing Director (OMD), Federal Communications Commission (FCC), 445 12th Street, SW., Washington, DC 20554.

RECORD ACCESS PROCEDURES:

Address inquiries to the Information Technology Center (ITC), Office of Managing Director (OMD), Federal Communications Commission (FCC), 445 12th Street, SW., Washington, DC 20554.

CONTESTING RECORD PROCEDURES:

Address inquiries to the Information Technology Center (ITC), Office of Managing Director (OMD), Federal Communications Commission (FCC), 445 12th Street, SW., Washington, DC 20554.

RECORD SOURCE CATEGORIES:

The sources for the information in this system are the survey respondents.

EXEMPTIONS CLAIMED FOR THE SYSTEM:

None.

Federal Communications Commission.
Marlene H. Dortch,
Secretary.

[FR Doc. E9-31009 Filed 12-29-09; 8:45 am]

BILLING CODE 6712-01-P